DEPARTMENT OF LABOR

Employment and Training Administration

[TA-W-58,246]

Fibrex, LLC; Formerly Known as Wellington Cordage, LLC; Currently Known as the Lehigh Group; Madison, GA; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on November 28, 2005, applicable to workers of Fibrex, LLC, formerly known as Wellington Cordage, LLC, Madison, Georgia. The notice was published in the Federal Register on December 21, 2005 (70 FR 75842).

At the request of the State agency, the Department reviewed the certification for workers of the subject firm. The workers are engaged in the production of rope (i.e. cordage).

The subject firm originally named Fibrex, LLC, formerly known as Wellington Cordage, Madison, Georgia, became known as The Lehigh Group in January 2006 due to a change in ownership. The State agency reports that workers wages at the subject firm are being reported under the Unemployment Insurance (UI) tax account for The Lehigh Group, Madison, Georgia.

Accordingly, the Department is amending the certification to properly reflect this matter.

The intent of the Department's certification is to include all workers of Fibrex, LLC, formerly known as Wellington Cordage, LLC, Madison, Georgia, who were adversely affected by increased company imports.

The amended notice applicable to TA-W-58,246 is hereby issued as follows:

All workers of Fibrex, LLC, formerly known as Wellington Cordage, LLC, currently known as The Lehigh Group, Madison, Georgia, who became totally or partially separated from employment on or after November 27, 2005, through November 28, 2007, are eligible to apply for adjustment assistance under Section 223 of the Trade Act of 1974, and are also eligible to apply for alternative trade adjustment assistance under Section 246 of the Trade Act of 1974.

Signed at Washington, DC, this 2nd day of February 2007.
Linda G. Poole,
Certifying Officer, Division of Trade Adjustment Assistance.

[FR Doc. E7-2163 Filed 2-8-07; 8:45 am]

BILLING CODE 4510-FN-P